DEPARTMENT OF ENERGY

Federal Energy Regulatory Commission

Combined Notice of Filings

Take notice that the Commission has received the following Natural Gas Pipeline Rate and Refund Report filings:

Filings Instituting Proceedings

Docket Number: PR18-80-000.

Applicants: Caprock Permian Natural Gas Transmission LLC.

Description: Tariff filing per 284.224/.123: Caprock Permian SOC to be effective 8/15/2018; Filing Type: 1340.

Filed Date: 8/16/18.

Accession Number: 20180816-5058.

Comments/Protests Due: 5 p.m. ET 9/6/18.

Docket Number: PR18-57-001.

Applicants: Targa Midland Gas Pipeline LLC.

Description: Tariff filing per 284.123(b),(e)/: Amendment to Petition for NGPA Section 311 Rate Approval to be effective 5/2/2018; Filing Type: 1000.

Filed Date: 8/22/18.

Accession Number: 20180822-5028.

Comments/Protests Due: 5 p.m. ET 8/29/18.

Docket Numbers: RP18-1071-000.

Applicants: Southern Natural Gas Company, L.L.C.

Description: § 4(d) Rate Filing: MGAG Negotiated Rate to be effective 10/1/2018.

Filed Date: 8/22/18.

Accession Number: 20180822-5000.

Comments Due: 5 p.m. ET 9/4/18.

Docket Numbers: RP18-1072-000.

Applicants: Southern Natural Gas Company, L.L.C.

Description: § 4(d) Rate Filing: Fuel Retention Rates—Winter 2018 to be effective 10/1/2018.

Filed Date: 8/22/18.

Accession Number: 20180822-5046.

Comments Due: 5 p.m. ET 9/4/18.

Docket Numbers: RP18-1074-000.

Applicants: Texas Eastern Transmission, LP.

Description: § 4(d) Rate Filing: EPC AUGUST 2018 FILING CORRECTION—RP18-912-000 to be effective 9/1/2018.

Filed Date: 8/22/18.

Accession Number: 20180822-5066.

Comments Due: 5 p.m. ET 9/4/18.

Docket Numbers: RP18-75-004.

Applicants: Algonquin Gas Transmission, LLC.

Description: Compliance filing FRQ Settlement Compliance Filing re Docket No. RP18-75 to be effective 10/1/2018.

Filed Date: 8/22/18.

Accession Number: 20180822-5060.

Comments Due: 5 p.m. ET 9/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2018.
Nathaniel J. Davis Sr.
Deputy Secretary.

[FR Doc. 2018-18713 Filed 8-28-18; 8:45 am]

BILLING CODE 6717-01-P